SECURITIES AND EXCHANGE COMMISSION

[Release No. 34-44047; File No. SR-CTA-01-01]

Consolidated Tape Association; Order Granting Approval of Seventh Charges Amendment to the Second Restatement of the Consolidated Tape Association Plan

March 7, 2001.

I. Introduction

On January 9, 2001, the Consolidated Tape Association Plan (“CTA Plan”) participants ¹ filed with the Securities and Exchange Commission (“Commission” or “SEC”) an amendment to the Second Restatement of the CTA Plan pursuant to Rule 11Aa3-2 ² of the Securities Exchange Act of 1934 (“Act”). Notice of the proposed CTA Plan amendment was published in the Federal Register on January 22, 2001.³ The Commission received no comments in response to the proposal. This order approves the proposed plan amendments.

¹ Each Plan participant executed the proposed amendments. The participants include the American Stock Exchange LLC, Boston Stock Exchange, Inc., Chicago Board Options Exchange, Inc., Chicago Stock Exchange Inc., Cincinnati Stock Exchange, Inc., National Association of Securities Dealers, Inc., New York Stock Exchange, Inc., Pacific Exchange, Inc. and Philadelphia Stock Exchange, Inc.

² 17 CFR 240.11Aa3-2.

³ Securities Exchange Act Release No. 43841 (January 12, 2001), 66 FR 6719.

II. Description of the Proposal

Currently, CTA Network B charges $21.50 per month for the first ticker at each customer location and $13.60 for any additional tickers at that location. CTA Network B proposes to eliminate the tiered pricing structure by eliminating the “First Ticker” premium charge. As proposed, each customer would be charge $13.60 for each ticker at each location.

III. Discussion

The Commission finds that the proposed CTA Plan amendment is consistent with the Act and the rules and regulations thereunder.⁴ Specifically, the Commission finds that approval of the amendment is consistent with Rule 11Aa3-2(c)(2) ⁵ of the Act.

⁴ The Commission has considered the proposed amendment's impact on efficiency, competition, and capital formation. 15 U.S.C. 78c(f).

⁵ 17 CFR 240.11Aa3-2(c)(2).

The Commission notes that, in October 2000, it formed the Advisory Committee on Market Information to assist the Commission in evaluating issues relating to the public availability of market information in the equities and options markets. Two of the issues the Committee will be evaluating are how market information fees should be determined and how the fairness and reasonableness of fees should be evaluated.

Notwithstanding this ongoing evaluation, the Commission has decided to approve the proposed plan amendment. The proposed amendment should reduce the amount of fees paid by customers to CTA Network B for last sale information. Thus, the proposed amendment is consistent with, and should further, one of the principal objectives for the national market system set forth in Section 11A(a)(1)(C)(iii) ⁶ of the Act—increasing the availability of market information to broker-dealers and investors. The Commission wishes to emphasize, however, that its review of market data fees and revenues is ongoing and may require reevaluation of the fee structures contained in the proposed CTA Plan amendment at some point in the future.

⁶ 15 U.S.C. 78k-1(a)(1)(C)(iii).

IV. Conclusion

It is therefore ordered, pursuant to Section 11A of the Act,⁷ and the rules thereunder, that the proposed amendment to the CTA Plan (SR-CTA-01-01) is approved.

⁷ 15 U.S.C. 78k-1.

For the Commission, by the Division of Market Regulation, pursuant to delegated authority.⁸
⁸ 17 CFR 200.30-3(a)(27).
Margaret H. McFarland,
Deputy Secretary.

[FR Doc. 01-6393 Filed 3-14-01; 8:45 am]

BILLING CODE 8010-01-M